DEPARTMENT OF ENERGY

Federal Energy Regulatory Commission

[Docket No. OR01-5-000]

Chevron Products Company v. Anschutz Ranch East Pipeline, Inc. and Express Pipeline Partnership; Notice of Complaint

March 1, 2001.

Take notice that on February 28, 2001, Chevron Products Company (Chevron) tendered for filing a complaint against Anschutz Ranch East Pipeline, Inc. (Anschutz) and Express Pipeline Partnership (Express).

Chevron states that it is a shipper of crude oil and sour condensate on a local tariff filed by Anschutz for the shipment of crude petroleum and sour condensate originating at Frontier Station, Utah and Evanston Station, Wyoming and terminating in Kimball Junction, Utah. Chevron states that it is also a shipper of crude oil on joint tariffs published by Anschutz and Express for the shipment of crude petroleum between International boundary, Canada and Salt Lake City, Utah. Chevron alleges that the rates being charged on the Anschutz local tariff and on the Anschutz portion or division of the Anschutz/Express joint tariffs are unjust and unreasonable and unduly discriminatory and unduly preferential, and, therefore, in violation of the Interstate Commerce Act. Chevron further maintains that the rates charged on the Express/Anschutz joint tariffs exceed ceiling price levels.

Any person desiring to be heard or to protest this filing should file a motion to intervene or protest with the Federal Energy Regulatory Commission 888 First Street, NE., Washington, DC 20426, in accordance with Rules 211 and 214 of the Commission's Rules of Practice and Procedure (18 CFR 385.211 and 385.214). All such motions or protests must be filed on or before March 20, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before March 20, 2001. Comments and protests may be filed electronically via the internet if lieu of paper. See, 18 CFR 385.2001(a)(1)(iii) and the instructions on the Commission's web site at http://www.ferc.fed.us/efi/doorbell.htm.

David P. Boergers,
Secretary.

[FR Doc. 01-5526 Filed 3-6-01; 8:45 am]

BILLING CODE 6717-01-M